DEPARTMENT OF JUSTICE

Notice of Lodging of Proposed Consent Decree Under the Clean Water Act

On November 18, 2021, the Department of Justice filed a Complaint under the Clean Water Act and lodged a proposed Consent Decree with the United States District Court for the District of Hawaii in the lawsuit entitled United States of America v. JM Fisheries LLC et al., Civil Action No. 1:21-cv-00452.

The Complaint alleges that the defendants, San Diego, California-based JM Fisheries LLC and G.S. Fisheries Inc., company manager James Sousa, and chief engineer Edward DaCosta, are civilly liable for violations of Section 311 of the Clean Water Act, 33 U.S.C. 1321. The Complaint alleges that the companies and individuals are liable for violations related to the commercial fishing vessel Capt. Vincent Gann and operations in and around American Samoa. The Complaint addresses the discharge of oil, including oily bilge waste, into Pago Pago Harbor, American Samoa, in April 2018. The Complaint also includes Clean Water Act claims for violations of the Coast Guard's pollution control regulations related to the defendants' operation of the vessel.

Under the proposed Consent Decree, the companies and company manager James Sousa will pay $720,000 in civil penalties. The Consent Decree also requires these defendants to perform corrective measures on all vessels they own or operate. These measures include hiring an independent maritime consultant to conduct a top-to-bottom review of each vessel's oil handling practices and operations, training crewmembers on proper operation and maintenance of the oily water separator system and on the required recordkeeping associated with the system, documenting transfers of oil within and to each vessel, and submitting compliance reports to the Coast Guard and the Department of Justice. Through a separate stipulated settlement, the vessel's chief engineer, Edward DaCosta, will pay $5,000 in civil penalties based on a demonstrated limited ability to pay a higher penalty.

The penalties paid in this case will be deposited in the federal Oil Spill Liability Trust Fund managed by the National Pollution Funds Center.

The publication of this notice opens a period for public comment on the proposed Consent Decree. Comments should be addressed to the Assistant Attorney General, Environment and Natural Resources Division, and should refer to United States of America v. JM Fisheries LLC et al., D.J. Ref. No. 90-5-1-1-11245/1. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.50 (25 cents per page reproduction cost) payable to the United States Treasury.

Lori Jonas,
Assistant Section Chief, Environmental Enforcement Section, Environment and Natural Resources Division.

[FR Doc. 2021-25654 Filed 11-23-21; 8:45 am]

BILLING CODE 4410-15-P